DEPARTMENT OF DEFENSE

Office of the Secretary

[Docket ID: DoD-2020-OS-0025]

Privacy Act of 1974; System of Records

AGENCY: National Geospatial-Intelligence Agency (NGA), Department of Defense.

ACTION: Rescindment of a System of Records Notice (SORN).

SUMMARY: The NGA is rescinding a System of Records, Alcoholism and Drug Abuse Files, B0901-07. This System of Records maintained documents relating to alcohol and narcotic use, treatment, assistance, and advice provided to NGA personnel. This system is no longer in use at NGA and all records previously contained within the Alcoholism and Drug Abuse Files were destroyed in accordance with the retention and disposition schedule as stated in the SORN. Currently, all records collected relating to drug and alcohol use are covered by the Personnel Vetting Records System, DUSDI 02-DoD and the NGA Enterprise Workforce System, NGA-003 SORNs.

DATES: This System of Records rescindment is effective upon publication. The specific date for when this system ceased to be a Privacy Act System of Records is July 1, 2015.

FOR FURTHER INFORMATION CONTACT: To submit general questions about the rescinded system, please contact Mr. Terrance J. Reeves, Chief Privacy Officer, Mission Oversight and Compliance, National Geospatial-Intelligence Agency, 7500 GEOINT Drive, Springfield, VA 22150-7500, or at (571) 558-7641 or terrance.j.reeves@nga.mil.

SUPPLEMENTARY INFORMATION: This system tracked personnel alcoholism and drug abuse records. All files were destroyed in accordance with the records disposition in the SORN and the system is no longer active.

The OSD notices for Systems of Records subject to the Privacy Act of 1974 (5 U.S.C. 552a), as amended, have been published in the Federal Register and are available from the address in FOR FURTHER INFORMATION CONTACT or at the Defense Privacy, Civil Liberties and Transparency Division website at https://dpcld.defense.gov.

The proposed systems reports, as required by the Privacy Act of 1974, as amended, were submitted on January 14, 2020, to the House Committee on Oversight and Reform, the Senate Committee on Homeland Security and Governmental Affairs, and the Office of Management and Budget (OMB) pursuant to Section 6 of OMB Circular No. A-108, “Federal Agency Responsibilities for Review, Reporting, and Publication under the Privacy Act,” revised December 23, 2016 (December 23, 2016, 81 FR 94424).

SYSTEM NAME AND NUMBER:

Alcoholism and Drug Abuse Files, B0901-07.

HISTORY:

July 13, 1995, 60 FR 36124.

Dated: February 21, 2020.
Aaron T. Siegel,
Alternate OSD Federal Register Liaison Officer, Department of Defense.

[FR Doc. 2020-03933 Filed 2-26-20; 8:45 am]

BILLING CODE 5001-06-P